DEPARTMENT OF DEFENSE

Office of the Secretary

[Docket ID: DOD-2010-HA-0014]

Proposed Collection; Comment Request

AGENCY: Office of the Assistant Secretary of Defense for Health Affairs, DoD.

ACTION: Notice.

SUMMARY: In compliance with section 3506(c)(2)(A) of the Paperwork Reduction Act of 1995, the Office of the Assistant Secretary of Defense for Health Affairs announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 23, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Assistant Secretary of Defense for Health Affairs, Force Health Protection and Readiness, ATTN: Ms. Caroline Miner, 5113 Leesburg Pike, Suite 901, Falls Church, VA 22041, or call Force Health Protection and Readiness, at 703-578-8500 or 1-800-754-2132.

Title; Associated Form; and OMB Number: Department of Defense Addendum to the Department of Health and Human Services' Federalwide Assurance for the Protection of Human Subjects; OMB Control Number 0720-TBD.

Needs and Uses: This form is a tool to help institutions with an existing Federalwide Assurance (FWA) approved by the Department of Health and Human Services (DHHS) to know about and acknowledge key DoD policies and requirements since the DHHS FWA does not identify DoD requirements.

Affected Public: Individuals.

Annual Burden Hours: 5.

Number of Respondents: 10.

Responses per Respondent: 1.

Average Burden per Response: 30 Minutes.

Frequency: On Occasion.

SUPPLEMENTARY INFORMATION:

Summary of Information Collection

This Addendum is for non-DoD institutions that already have a Federalwide Assurance (FWA) approved by DHHS and will be engaged in DoD-supported human subject research. Its purpose is help these institutions to know about and acknowledge key DoD policies and requirements as the DHHS FWA does not identify DoD requirements.

Dated: February 16, 2010.
Mitchell S. Bryman,
Alternate OSD Federal Register Liaison Officer, Department of Defense.

[FR Doc. 2010-3377 Filed 2-19-10; 8:45 am]

BILLING CODE 5001-06-P